ENVIRONMENTAL PROTECTION AGENCY

[EPA-HQ-OPP-2017-0751; FRL-9989-68]

Interim Registration Review Decisions and Case Closures for Several Pesticides; Notice of Availability

AGENCY: Environmental Protection Agency (EPA).

ACTION: Notice.

SUMMARY: This notice announces the availability of EPA's interim registration review decision for the following chemicals: Ammonia and Ammonium Sulfate, Azoxystrobin, Benfluralin, Chloropropham, Clomazone, Cytokinins, Dichlobenil, Diflufenzopyr and Diflufenzopyr-sodium, Fenhexamid, Fluopicolide, Fluridone, Indole-3-Butyric Acid, Indoxacarb, Naphthenate Salts, Nuranone, Prometryn, Spinetoram, Spinosad, Trifloxystrobin, and (Z)-9-tricosene. It also announces the amended interim decisions for Ethalfluralin and Hexazinone. In addition, it announces the closure of the registration review case for triforine because the last U.S. registrations for this pesticide have been canceled.

SUPPLEMENTARY INFORMATION:

I. General Information

A. Does this action apply to me?

This action is directed to the public in general and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the pesticide specific contact person listed under FOR FURTHER INFORMATION CONTACT.

For pesticide specific information, contact: The Chemical Review Manager for the pesticide of interest identified in the Table in Unit IV.

For general information on the registration review program, contact: Dana Friedman, Pesticide Re-Evaluation Division (7508P), Office of Pesticide Programs, Environmental Protection Agency, 1200 Pennsylvania Ave. NW, Washington, DC 20460-0001; telephone number: (703) 347-8827; email address: friedman.dana@epa.gov.

II. Background

Registration review is EPA's periodic review of pesticide registrations to ensure that each pesticide continues to satisfy the statutory standard for registration, that is, the pesticide can perform its intended function without unreasonable adverse effects on human health or the environment. As part of the registration review process, the Agency has completed interim decisions for all pesticides listed in the Table in Unit IV. Through this program, EPA is ensuring that each pesticide's registration is based on current scientific and other knowledge, including its effects on human health and the environment.

III. Authority

EPA is conducting its registration review of the chemicals listed in the Table in Unit IV pursuant to section 3(g) of the Federal Insecticide, Fungicide, and Rodenticide Act (FIFRA) and the Procedural Regulations for Registration Review at 40 CFR part 155, subpart C. Section 3(g) of FIFRA provides, among other things, that the registrations of pesticides are to be reviewed every 15 years. Under FIFRA, a pesticide product may be registered or remain registered only if it meets the statutory standard for registration given in FIFRA section 3(c)(5) (7 U.S.C. 136a(c)(5)). When used in accordance with widespread and commonly recognized practice, the pesticide product must perform its intended function without unreasonable adverse effects on the environment; that is, without any unreasonable risk to man or the environment, or a human dietary risk from residues that result from the use of a pesticide in or on food.

IV. What action is the agency taking?

Pursuant to 40 CFR 155.58, this notice announces the availability of EPA's interim registration review decisions for the pesticides shown in the following table. The interim registration review decisions are supported by rationales included in the docket established for each chemical.

Table—Registration Review Interim Decisions Being Issued
Registration review case name and No. | Docket ID No. | Chemical review manager and contact information
Ammonia and Ammonium Sulfate, Case Numbers 7440 & 5073 | EPA-HQ-OPP-2012-0684 | Stephen Savage, savage.stephen@epa.gov, (703) 347-0345.
Azoxystrobin, Case Number 7020 | EPA-HQ-OPP-2009-0835 | Veronica Dutch, dutch.veronica@epa.gov, (703) 308-8585.
Benfluralin, Case 2030 | EPA-HQ-OPP-2011-0931 | Michelle Nolan, nolan.michelle@epa.gov, (703) 347-0258.
Chlorpropham, Case 0271 | EPA-HQ-OPP-2010-0923 | Marianne Mannix, mannix.marianne@epa.gov, (703) 347-0275.
Clomazone, Case 7203 | EPA-HQ-OPP-2006-0113 | Tiffany Green, green.tiffany@epa.gov, (703) 347-0314.
Cytokininsm, Case 4107 | EPA-HQ-OPP-2012-0671 | Daniel Schoeff, schoeff.daniel@epa.gov, (703) 347-0143.
Dichlobenil, Case 0263 | EPA-HQ-OPP-2012-0395 | Nathan Sell, sell.nathan@epa.gov, (703) 347-8020.
Diflufenzopyr and Diflufenzopyr-sodium, Case 7246 | EPA-HQ-OPP-2011-0911 | Jill Bloom, bloom.jill@epa.gov, (703) 308-8019.
Ethalfluralin, Case 2260 | EPA-HQ-OPP-2011-0094 | Patricia Biggio, biggio.patricia@epa.gov, (703) 347-0547.
Fenhexamid, Case 7027 | EPA-HQ-OPP-2013-0187 | Susan Bartow, bartow.susan@epa.gov, (703) 603-0065.
Fluopicolide, Case 7055 | EPA-HQ-OPP-2013-0037 | Eric Fox, fox.ericm@epa.gov, (703) 347-0104.
Fluridone, Case 7200 | EPA-HQ-OPP-2009-0160 | Leigh Rimmer, rimmer.leigh@epa.gov, (703) 347-0553.
Hexazinone Case 0266 | EPA-HQ-OPP-2009-0755 | Melanie Biscoe, biscoe.melanie@epa.gov, (703) 305-7106.
Indole-3-Butyric Acid (IBA), Case 2330 | EPA-HQ-OPP-2010-0608 | Seiichi Murasaki, murasaki.seiichi@epa.gov, (703) 347-0163.
Indoxacarb, Case 7613 | EPA-HQ-OPP-2013-0367 | Moana Appleyard, appleyard.moana@epa.gov,(703) 308-8175.
Naphthenate Salts, Case 3099 | EPA-HQ-OPP-2010-0455 | Rachel Ricciardi, ricciardi.rachel@epa.gov, (703) 347-0465.
Nuranone, Case 4113 | EPA-HQ-OPP-2012-0126 | Susanne Cerrelli, cerrelli.susanne@epa.gov, (703) 308-8077.
Prometryn, Case 0467 | EPA-HQ-OPP-2013-0032 | Christina Scheltema, scheltema.christina@epa.gov, (703) 308-2201.
Spinetoram, Case 7448 | EPA-HQ-OPP-2011-0666 | Jordan Page, page.jordan@epa.gov, (703) 347-0467.
Spinosad, Case 7421 | EPA-HQ-OPP-2011-0667 | Jordan Page, page.jordan@epa.gov, (703) 347-0467.
Trifloxystrobin, Case 7028 | EPA-HQ-OPP-2013-0074 | Samantha Thoma, thomas.samantha@epa.gov, (703) 347-0514.
(Z)-9-tricosene (Muscalure), Case 4112 | EPA-HQ-OPP-2010-0925 | Alexandra Boukedes, boukedes.alexandra@epa.gov, (703) 347-0305.

The proposed interim registration review decisions for the chemicals in the table above were posted to the docket and the public was invited to submit any comments or new information. EPA addressed the comments or information received during the 60-day comment period for the proposed interim decisions in the discussion for each pesticide listed in the table. Comments from the 60-day comment period that were received may or may not have affected the Agency's interim decision. Pursuant to 40 CFR 155.58(c), the registration review case docket for the chemicals listed in the Table will remain open until all actions required in the interim decision have been completed.

This document also announces the posting of the amended interim decisions for ethalfluralin and hexazinone. The original interim decision for ethalfluralin was published on December 15, 2017 (82 FR 59606) (FRL-9970-54) and the original interim decision for hexazinone as published on February 27, 2018 (83 FR 8472) (FRL-9973-09). Following issuance of these decisions, the agency received information that resulted in it amending the required label modifications. These modifications are expected to allow applicators greater flexibility, while not affecting the agency's overall risk management determinations.

This document also announces the closure of the registration review case for triforine (Case 2720, Docket ID Number EPA-HQ-OPP-2015-0853) because the last U.S. registrations for this pesticide have been canceled. Background on the registration review program is provided at: http://www.epa.gov/pesticide-reevaluation.

Authority: 7 U.S.C. 136 et seq.

Dated: March 5, 2019.
Charles Smith,
Acting Director, Pesticide Re-Evaluation Division, Office of Pesticide Programs.

[FR Doc. 2019-04970 Filed 3-15-19; 8:45 am]

BILLING CODE 6560-50-P